DEPARTMENT OF AGRICULTURE

Rural Business—Corporative Service

Notice of Request for Extension of a Currently Approved Information Collection

AGENCY: Rural Business-Cooperative Service, USDA.

ACTION: Proposed collection; Comments requested.

SUMMARY: In accordance with the Paperwork Reduction Act of 1995, this notice announces the Rural Business-Cooperative Service's (RBS) intention to request an extension for a currently approved information collection in support of the program for the Business and Industry Loan Program.

DATES: Comments on this notice must be received by February 25, 2002 to be assured of consideration.

FOR FURTHER INFORMATION CONTACT: Rick Bonnet, Senior Commercial Loan Specialist, RBS, U.S. Department of Agriculture, Stop 3221, telephone (202) 720-1804 or email rick.bonnet@usda.gov. The Federal Information Relay Service on (800) 887-8339 is available for TDD users.

SUPPLEMENTARY INFORMATION: Title: Business and Industry Loan Program.

OMB Number: 0570-0014.

Expiration Date of Approval: March 31, 2002.

Type of Request: Extension of a currently approved information collection and recordkeeping requirements.

Abstract: The B&I Program is authorized under Section 310B of the Consolidated Farm and Rural Development Act, as amended. The purpose of the Business and Industry (B&I) Guaranteed and Direct Loan Programs is to improve, develop, or finance businesses, industry and employment and improve the economic and environmental climate in rural communities, including pollution control abatement and control. This purpose is achieved through bolstering the existing private credit structure, either through the guaranteeing of quality loans made by lending institutions, or making direct loans, thereby providing lasting community benefits. B&I program authority is composed of direct loan authority and loan guarantee authority. The program is administered by the Agency through a State Director serving the State.

All reporting and recordkeeping burden estimates for making and servicing B&I Guaranteed Loans have been moved to the new B&I Guaranteed Loan Program regulations which are at 7 CFR 4279-A and B and 4287-B. The only burden associated with 7 CFR 1980-E is a small portion of B&I Direct loanmaking. 7 CFR 1951-E is used for servicing B&I Direct and Community Facility Loans.

Estimate of Burden: Public reporting for this collection of information is estimated to average 8 hours per response.

Respondents: Individuals, rural businesses, for profit businesses, non-profit businesses, Indian tribes, public bodies, cooperatives.

Estimated Number of Respondents: 200.

Estimated Number of Responses per Respondent: 3.

Estimated Number of Responses: 586.

Estimated Total Annual Burden on Respondents: 4,545 hours.

Copies of this information collection can be obtained from Cheryl Thompson, Regulations and Paperwork Management Branch, Support Services Division at (202) 692-0043.

Comments

Comments are invited on: (a) Whether the proposed collection of information is necessary for the proper performance of the functions of RBS, including whether the information will have practical utility; (b) the accuracy of RBS estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Cheryl Thompson, Regulations and Paperwork Management Branch, Support Services Division, U.S. Department of Agriculture, Rural Development, STOP 0742, 1400 Independence Ave. SW., Washington, DC 20250. All responses to this notice will be summarized and included in the request for OMB approval. All comments will also become a matter of public record.

Dated: December 14, 2001.
John Rosso,
Acting Administrator, Rural Business-Cooperative Service.

[FR Doc. 01-31618 Filed 12-21-01; 8:45 am]

BILLING CODE 3410-XY-P